INTERNATIONAL TRADE COMMISSION

[Investigations Nos. 701-TA-401 (Final) and 731-TA-854 (Final)]

Certain Structural Steel Beams From Korea

Determinations

On the basis of the record ¹ developed in the subject investigations, the United States International Trade Commission determines, pursuant to sections 705(b) and 735(b) of the Tariff Act of 1930 (19 U.S.C. 1671d(b) and 1673d(b)) (the Act), that an industry in the United States is materially injured ² or threatened with material injury ³ by reason of imports from Korea of certain structural steel beams, provided for in subheadings 7216.32.00, 7216.33.00, 7216.50.00, 7216.61.00, 7216.69.00, 7216.91.00, 7216.99.00, 7228.70.30, and 7228.70.60 of the Harmonized Tariff Schedule of the United States, that have been found by the Department of Commerce to be subsidized by the Government of Korea and sold in the United States at less than fair value (LTFV).

¹ The record is defined in sec. 207.2(f) of the Commission's Rules of Practice and Procedure (19 CFR § 207.2(f)).

² Vice Chairman Deanna Tanner Okun, Commissioner Marcia A. Miller, and Commissioner Jennifer A. Hillman find that an industry in the United States is materially injured.

³ Chairman Stephen Koplan, Commissioner Lynn M. Bragg, and Commissioner Thelma J. Askey find that an industry in the United States is threatened with material injury. Further, Chairman Koplan and Commissioners Bragg and Askey determine, under sections 705(b)(4)(B) and 735(b)(4)(B) of the Act (19 U.S.C. 1671d(b)(4)(B) and 19 U.S.C. 1673d(b)(4)(B)), that they would not have made affirmative material injury determinations but for the suspension of liquidation.

Background

The Commission instituted these investigations effective July 7, 1999, following receipt of petitions filed with the Commission and the Department of Commerce by Northwestern Steel & Wire Co., Sterling, IL; Nucor-Yamato Steel Co., Blytheville, AR; TXI-Chaparral Steel Co., Midlothian, TX; and The United Steelworkers of America AFL-CIO, Pittsburgh, PA. The final phase of the investigations was scheduled by the Commission following notification of a preliminary determination by the Department of Commerce that imports of certain structural steel beams from Korea were being sold in the United States at LTFV within the meaning of section 733(b) of the Act (19 U.S.C. 1673b(b)).⁴ Notice of the scheduling of the Commission's investigations and of a public hearing to be held in connection therewith was given by posting copies of the notice in the Office of the Secretary, U.S. International Trade Commission, Washington, DC, and by publishing the notice in the Federal Register of March 1, 2000 (65 FR 11092). The hearing was held in Washington, DC, on April 25, 2000, and all persons who requested the opportunity were permitted to appear in person or by counsel.

⁴ Commerce made a preliminary negative determination regarding subsidies on subject imports from Korea. The Commission noted that in the event Commerce made an affirmative final determination regarding subsidies, the final phase of the Commission's countervailing duty investigation would be activated. Commerce's final determination regarding subsidized imports was affirmative, thus activating the final phase of the Commission's countervailing duty investigation.

The Commission transmitted its determinations in these investigations to the Secretary of Commerce on August 4, 2000. The views of the Commission are contained in USITC Publication 3326 (August 2000), entitled Certain Structural Steel Beams from Korea: Investigations Nos. 701-TA-401 (Final) and 731-TA-854 (Final).

Issued: August 8, 2000.
By order of the Commission.
Donna R. Koehnke,
Secretary.

[FR Doc. 00-20529 Filed 8-11-00; 8:45 am]

BILLING CODE 7020-02-U